DEPARTMENT OF ENERGY

Federal Energy Regulatory Commission

[Docket No. EG01-209-000, et al.]

Indian River Power, LLC, et al.; Electric Rate and Corporate Regulation Filings

August 14, 2001.

Take notice that the following filings have been made with the Commission:

1. Indian River Power, LLC

[Docket No. EG01-209-000]

On August 9, 2001, Indian River Power, LLC (Indian River) submitted an amendment to its application for determination of exempt wholesale generator status, concerning certain licenses associated with the Indian River facilities.

Comment date: September 4, 2001, in accordance with Standard Paragraph E at the end of this notice. The Commission will limit its consideration of comments to those that concern the adequacy or accuracy of the application.

2. South Houston Green Power, L.P.

[Docket No. EG01-231-000]

On August 9, 2001, South Houston Green Power, L.P. (the Applicant), with its principal office at 139 East Fourth Street, Cincinnati, Ohio 45202, filed with the Commission an amendment to its application for determination of exempt wholesale generator status pursuant to Part 365 of the Commission's regulations.

Applicant states that it is a Delaware limited partnership engaged directly and exclusively in the business of holding ownership and license interests in several gas-fired cogeneration facilities located in the Texas City, Texas, with an aggregate capacity of approximately 248MW. Electric energy produced by the facility will be sold at wholesale or at retail exclusively to foreign consumers.

Comment date: September 4, 2001, in accordance with Standard Paragraph E at the end of this notice. The Commission will limit its consideration of comments to those that concern the adequacy or accuracy of the application.

3. Pacific Gas and Electric Company

[Docket No. ER01-833-000]

Take notice that on August 8, 2001, Pacific Gas and Electric Company (PG&E) tendered for filing a Further Request for Deferral of Consideration of the unexecuted Wholesale Distribution Tariff Service Agreement and Interconnection Agreement between Pacific Gas and Electric Company and Modesto Irrigation District (MID) filed in FERC Docket No. ER01-833-000 on December 29, 2000. PG&E and Modesto are still discussing the final terms of these Agreements and PG&E therefore is notifying the Commission that the executed WDT and IA will not be filed by August 14, 2001, the requested deferral date. PG&E requests that the Commission defer consideration of the WDT Service Agreement and IA filed in ER01-833-000 to October 14, 2001 or 60 days beyond the last request for Deferral in order that the parties may finalize the Agreements.

Copies of this filing have been served upon MID, the California Independent System Operator Corporation, and the California Public Utilities Commission.

Comment date: August 29, 2001, in accordance with Standard Paragraph E at the end of this notice.

4. Southwest Power Pool, Inc.

[Docket No. ER01-1989-003]

Take notice that on August 8, 2001, Southwest Power Pool, Inc. (SPP) submitted the compliance filing required by the Commission's order of July 9, 2001 in the referenced proceeding. SPP requests an effective date of June 1, 2001 for the changes reflected in this filing.

Copies of this filing were served on all parties on the Commission's official service list in this proceeding, on all SPP transmission customers and on all affected state commissions.

Comment date: August 29, 2001, in accordance with Standard Paragraph E at the end of this notice.

5. South Carolina Electric & Gas Company

[Docket Nos. ER01-2030-001, ER01-2109-001, ER01-2110-001, ER01-2177-001]

Take notice that on August 9, 2001 South Carolina Electric & Gas Company (SCE&G) submitted for filing in compliance with the requirements of the Commission's July 10 Letter Order in Docket Nos. ER01-2030-000 et al. its Negotiated Market Sales Tariff, designated as South Carolina Electric & Gas Company FERC Electric Tariff, Third Revised Volume No. 2, and the service agreements with Central Electric Power Cooperative, Inc., Florida Power Corporation, Mirant Americas Energy Marketing, LP and the City of Orangeburg, South Carolina which have been revised to incorporate the designation information required by Order No. 614.

SCE&G states that a copy of this filing has been served on each person designated on the official service list in Docket Nos. ER01-2030-000, ER01-2109-000, ER01-2110-000 and ER01-2177-000 and on Central Electric Power Cooperative, Inc., Florida Power Corporation, Mirant Americas Energy Marketing, LP and the City of Orangeburg, South Carolina.

Comment date: August 30, 2001, in accordance with Standard Paragraph E at the end of this notice.

6. Central Maine Power Company

[Docket No. ER01-2032-001]

Take notice that Central Maine Power Company (CMP), on August 8, 2001, tendered for filing in compliance with the Federal Energy Regulatory Commission's (FERC or Commission) order issued July 12, 2001 in Docket No. ER01-2032-000, a “First Amendment Agreement” (the Amendment) between CMP and Calpine Construction Finance, L.P. (Calpine). In accordance with Order No. 614, FERC Stats. & Regs. ¶ 31,096 (2000), CMP also tendered for filing a First Revised Interconnection Agreement (the First Revised Agreement), revised pursuant to the Amendment.

CMP respectfully requests that the Commission accept the Amendment and the First Revised Agreement effective as of July 12, 2001, without modification or condition, and grant waiver of any and all requirements, including the Commission's notice requirements for good cause, for these agreements to become effective. Copies of this filing have been served on Calpine and the State of Maine Public Utilities Commission.

Comment date: August 29, 2001, in accordance with Standard Paragraph E at the end of this notice.

7. New England Power Pool

[Docket Nos. ER01-2144-002]

Take notice that on August 8, 2001, the New England Power Pool (NEPOOL) Participants Committee submitted a report of compliance in response to requirements of the Commission's July 24, 2001 order in Docket No. ER01-2144-000. New England Power Pool, 96 FERC 61,098 (2001).

The NEPOOL Participants Committee states that copies of these materials were sent to all persons identified on the service lists in the captioned proceedings, the NEPOOL Participants and the six New England state governors and regulatory commissions.

Comment date: August 29, 2001, in accordance with Standard Paragraph E at the end of this notice.

8. PacifiCorp

[Docket No. ER01-2501-002]

Take notice that on July 31, 2001, PacifiCorp tendered for filing signature pages evidencing the execution of Amendatory Agreement No. 5, to the Pacific Northwest Coordination Agreement dated September 15, 1964.

Comment date: August 24, 2001, in accordance with Standard Paragraph E at the end of this notice.

9. Combined Locks Energy Center, L.L.C.

[Docket No. ER01-2659-001]

Take notice that on August 8, 2001, Combined Locks Energy Center, L.L.C., filed a request to change the requested effective date for the above-captioned market-based rate application from September 22, 2001 to September 4, 2001.

Copies of the filing were served upon the Public Service Commission of Wisconsin.

Comment date: August 29, 2001, in accordance with Standard Paragraph E at the end of this notice.

10. Southern Company Services, Inc.

[Docket No. ER01-2798-000]

Take notice that on August 8, 2001, Southern Company Services, Inc. (SCS), acting on behalf of Alabama Power Company, Georgia Power Company, Gulf Power Company, Mississippi Power Company, and Savannah Electric and Power Company (collectively referred to as Southern Company), filed three (3) service agreements for firm point-to-point transmission service under the Open Access Transmission Tariff (Tariff) of Southern Company (FERC Electric Tariff, Fourth Revised Volume No. 5) between SCS, as agent for Southern Company, and the following Transmission Customers (i) East Kentucky Power Cooperative, Inc. (East Kentucky); (ii) FPL Energy Power Marketing, Inc. (FPL Energy); and (iii) Exelon Generation Company, LLC (Exelon). Additionally, the SCS, on behalf of Southern Company, filed three (3) non-firm point-to-point transmission service agreements under the Tariff with (i) East Kentucky; (ii) FPL Energy; and (iii) Exelon.

Comment date: August 29, 2001, in accordance with Standard Paragraph E at the end of this notice.

11. American Electric Power Service Corporation

[Docket No. ER01-2801-000]

Take notice that on August 8, 2001, the American Electric Power Corporation (AEPSC) tendered for filing executed Facilities Agreement between Ohio Power Company and Jackson County Power, LLC. The agreement is pursuant to the AEP Companies' Open Access Transmission Service tariff (OATT) that has been designated as the Operating Companies of the American Electric Power System FERC Electric Tariff Revised Volume No. 6, effective June 15, 2000. A copy of the filing was served upon the Ohio Public Utilities Commission.

AEP requests an effective date of October 7, 2001.

Comment date: August 29, 2001, in accordance with Standard Paragraph E at the end of this notice.

12. New England Power Company

[Docket No. ER01-2802-000]

Take notice that on August 8, 2001, New England Power Company (NEP) submitted twenty-two revised Service Agreements for Network Integration Transmission Service (Service Agreements) between NEP and its municipal customers. The Service Agreements are under NEP's open access transmission tariff—New England Power Company, FERC Electric Tariff, Second Revised Volume No. 9.

Comment date: August 29, 2001, in accordance with Standard Paragraph E at the end of this notice.

13. Niagara Mohawk Power Corporation

[Docket No. ER01-2803-000]

Take notice that on August 6, 2001, Niagara Mohawk Power Corporation (Niagara Mohawk) tendered for filing with the Federal Energy Regulatory Commission an executed Transmission Service Agreement between Niagara Mohawk and PG&E Energy Trading B Power, L.P. (PGET). This Transmission Service Agreement specifies that PGET has signed on to and has agreed to extend its existing transmission service under the terms and conditions of Niagara Mohawk's Open Access Transmission Tariff as filed in Docket No. OA96-194-000. Niagara Mohawk has served copies of the filing upon the New York State Public Service Commission, PGET, The New York Independent System Operator, and the New York State Electric & Gas Corporation.

Niagara Mohawk requests an effective date of September 1, 2001.

Comment date: August 29, 2001, in accordance with Standard Paragraph E at the end of this notice.

14. Sunrise Power Company, LLC

[Docket No. ER01-2804-000]

Take notice that on August 7, 2001, Sunrise Power, LLC tendered for filing under its market-based rate tariff a long-term Confirmation Agreement (Tolling) and a long-term Master Power Purchase and Sale Agreement entered into with the State of California Department of Water Resources, and requested waiver of the Commission's notice requirement.

Comment date: August 28, 2001, in accordance with Standard Paragraph E at the end of this notice.

15. Duke Energy Corporation

[Docket No. ER01-2805-000]

Take notice that on August 8, 2001, Duke Energy Corporation (Duke) tendered for filing a Service Agreement with Exelon Generation Company, LLC for Non-Firm Transmission Service under Duke's Open Access Transmission Tariff. Duke requests that the proposed Service Agreement be permitted to become effective on September 1, 2001.

Duke states that this filing is in accordance with Part 35 of the Commission's Regulations and a copy has been served on the North Carolina Utilities Commission.

Comment date: August 29, 2001, in accordance with Standard Paragraph E at the end of this notice.

16. Duke Energy Corporation

[Docket No. ER01-2806-000]

Take notice that on August 8, 2001, Duke Energy Corporation (Duke) tendered for filing a Service Agreement with Exelon Generation Company, LLC for Firm Transmission Service under Duke's Open Access Transmission Tariff. Duke requests that the proposed Service Agreement be permitted to become effective on September 1, 2001.

Duke states that this filing is in accordance with Part 35 of the Commission's Regulations and a copy has been served on the North Carolina Utilities Commission.

Comment date: August 29, 2001, in accordance with Standard Paragraph E at the end of this notice.

17. Duke Energy Corporation

[Docket No. ER01-2807-000]

Take notice that on August 8, 2001, Duke Energy Corporation (Duke) tendered for filing a Service Agreement with Duke Power, a division of Duke Energy Corporation for Firm Transmission Service under Duke's Open Access Transmission Tariff. Duke states that this filing is in accordance with Part 35 of the Commission's Regulations and a copy has been served on the North Carolina Utilities Commission.

Duke requests that the proposed Service Agreement be permitted to become effective on September 1, 2001.

Comment date: August 29, 2001, in accordance with Standard Paragraph E at the end of this notice.

18. Duke Energy Corporation

[Docket No. ER01-2808-000]

Take notice that on August 8, 2001, Duke Energy Corporation (Duke) tendered for filing a Service Agreement with Carolina Power & Light Company for Firm Transmission Service under Duke's Open Access Transmission Tariff.

Duke requests that the proposed Service Agreement be permitted to become effective on July 17, 2001. Duke states that this filing is in accordance with Part 35 of the Commission's Regulations and a copy has been served on the North Carolina Utilities Commission.

Comment date: August 29, 2001, in accordance with Standard Paragraph E at the end of this notice.

19. Southwestern Electric Power Company

[Docket No. ER01-2809-000]

Take notice that on August 8, 2001 Southwestern Electric Power Company (SWEPCO) submitted for filing the following revised rate sheets for the Restated and Amended Power Supply Agreement Between Southwestern Electric Power Company and East Texas Electric Cooperative, Inc. (SWEPCO First Revised Rate Schedule No. 113): First Revised Sheet No. 32, First Revised Sheet No. 36 and First Revised Sheet No. 64

SWEPCO states that a copy of the filing has been served on East Texas Electric Cooperative, Inc., all parties to this docket and the Public Utilities Commission of Texas.

Comment date: August 29, 2001, in accordance with Standard Paragraph E at the end of this notice.

20. Southern Power Company

[Docket No. ER01-2822-000]

Take notice that on August 8, 2001, Southern Power Company (Southern Power), tendered for filing a market-based Power Purchase Agreement with Georgia Power Company. Southern Power requests an effective date of October 1, 2001 for this agreement.

Comment date: August 29, 2001, in accordance with Standard Paragraph E at the end of this notice.

21. Southern Power Company

[Docket No. ER01-2824-000]

Take notice that on August 8, 2001, Southern Power Company (Southern Power), tendered for filing a market-based Power Purchase Agreement with Georgia Power Company. Southern Power requests an effective date of October 1, 2001 for this agreement.

Comment date: August 29, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20878 Filed 8-17-01; 8:45 am]

BILLING CODE 6717-01-P